DEPARTMENT OF EDUCATION

[CFDA No.: 84.083A]

Women's Educational Equity Program (WEEA); Notice Inviting Applications for New Awards for Fiscal Year (FY) 2002

Summary: The Secretary invites applications for new grant awards for FY 2002 for the Women's Educational Equity Program. These grants are authorized by subpart 21, part D, title V, of the Elementary and Secondary Education Act (ESEA), as amended by the No Child Left Behind Act, Public Law 107-110.

Purpose of Program: To provide financial assistance: to promote gender equity in education; to enable educational agencies to meet the requirements of title IX of the Education Amendments of 1972; and to promote equity in education for women and girls who suffer from multiple forms of discrimination based on sex and race, ethnic origin, limited English proficiency, disability or age.

Eligible Applicants: Public agencies, private nonprofit agencies, organizations, institutions, student groups, community groups, and individuals.

Applications Available: July 5, 2002.

Deadline for Transmittal of Applications: August 19, 2002.

Deadline for Intergovernmental Review: October 18, 2002.

Available Funds: $842,000.

Estimated Range of Awards: $95,000-$200,000.

Estimated Average Size of Awards: $145,000.

Estimated Number of Awards: 4-7 (The Department is not bound by any estimates in this notice).

Note: In order to ensure the equitable distribution of grants, the Secretary, to the extent feasible, will award a slate of grants that address:

• A variety of levels of education, including preschool, elementary and secondary education, higher education, vocational education and adult education;

• Different regions of the United States; and

• A diversity of urban, rural, and suburban entities.

Project Period: Up to 48 months. Fiscal year 2002 funds available under this competition would be used for the first 12 months of a project.

E-Mail Notification of Intent to Apply for Funding: The Department will be able to develop a more efficient process for reviewing grant applications if it has a better understanding of the number of entities that intend to apply for funding under this competition. Therefore, the Secretary strongly encourages each potential applicant for the Women's Educational Equity program to notify the Department by e-mail that it intends to submit an application for funding. The Secretary requests that this e-mail notification be sent no later than August 5, 2002. The e-mail notification should be sent to Diane Austin at diane.Austin@ed.gov. Applicants that fail to provide this e-mail notification may still apply for funding.

Applicable Regulations: The Education Department General Administrative Regulations (EDGAR) in 34 CFR parts 74, 75, 77, 79, 80, 81, 82, 85, 86, 97, 98, and 99.

SUPPLEMENTARY INFORMATION: The Department will award grants for the implementation of gender equity programs in schools. Examples of statutory activities under the program include—

(a) Assisting educational agencies and institutions to implement policies and practices to comply with title IX of the Education Amendments of 1972;

(b) Training for teachers, counselors, administrators, and other school personnel, especially preschool and elementary school personnel, in gender-equitable teaching and learning practices;

(c) Leadership training for women and girls to develop professional and marketable skills to compete in the global marketplace, improve self-esteem, and benefit from exposure to positive role models;

(d) School-to-work transition programs, guidance and counseling activities, and other programs to increase opportunities for women and girls to enter a technologically demanding workplace and, in particular, to enter highly skilled, high-paying careers in which women and girls have been underrepresented;

(e) Enhancing educational and career opportunities for those women and girls who suffer multiple forms of discrimination, based on sex and on race, ethnic origin, limited English proficiency, disability, socioeconomic status, or age;

(f) Assisting pregnant students and students rearing children to remain in or to return to secondary school, graduate, and prepare their preschool children to start school;

(g) Evaluating exemplary model programs to assess the ability of such programs to advance educational equity for women and girls;

(h) Introduction into the classroom of textbooks, curricula, and other materials designed to achieve equity for women and girls;

(i) Programs and policies to address sexual harassment and violence against women and girls and to ensure that educational institutions are free from threats to the safety of students and personnel;

(j) Nondiscriminatory tests of aptitude and achievement and of alternative assessments that eliminate biased assessment instruments from use;

(k) Programs to increase educational opportunities, including higher education, vocational training, and other educational programs for low-income women, including underemployed and unemployed women, and women receiving Aid to Families with Dependent Children benefits;

(l) Programs to improve representation of women in educational administration at all levels; and

(m) Planning, development, and initial implementation of:

• Comprehensive institution- or districtwide evaluatio to assess the presence or absence of gender equity in educational settings;

• Comprehensive plans for implementation of equity programs in State and local educational agencies and institutions of higher education, including community colleges; and

• Innovative approaches to school-community partnerships for educational equity.

Note: Due to a limited budget, the Department is not inviting applications under CFDA #84.083B (research and development grants) for FY 2002.

Invitational Priority for Implementation Grants: The Secretary invites and encourages applications that meet one or more of the following three invitational priorities for implementation grants:

(1) Projects that replicate or expand, and evaluate exemplary model programs that advance educational equity and contribute to improving teaching and learning for girls and women with disabilities. The Secretary is particularly interested in projects that include one of the following:

(a) Programs involving disabled girls and women who are likely to experience, or have experienced, multiple forms of discrimination based on sex, race, ethnic origin, limited English proficiency, disability, socioeconomic status or age;

(b) Mentoring programs and leadership training for disabled girls and women; and

(c) Identification of curricula and other materials designed to achieve equity for girls and women with disabilities and the effective implementation of these materials in the classroom.

(2) Projects that assist pregnant students and students with children to:

(a) Remain in or return to secondary school and graduate;

(b) Prepare their preschool children for school with an emphasis on reading;

(c) Explore postsecondary training and education.

(3) Projects that increase the role of parents in working in partnership with educational institutions to develop programs to encourage the full educational development of girls and women

(4) Projects that seek to increase opportunities for girls and women to enter a technologically demanding workplace and, in particular, to enter highly skilled careers in which women have been underrepresented, particularly in mathematics, scientific and information technology fields.

Note: An application that meets this invitational priority does not receive competitive or absolute preference over other applications.

Selection Criteria for Implementation Grants: The Secretary evaluates applications for implementation grants on the basis of the following criteria. The maximum possible score for each criterion is indicated in parentheses with the criterion. The Secretary awards up to 100 points for all of the criteria.

(1) Effectively achieving the purposes of WEEA. (10 points)

The Secretary reviews each application to determine how well the project will effectively achieve the purposes of the WEEA Program.

Note: Applicants should consider the following statutory provisions when responding to this criterion. Under 20 U.S.C. 7283a, the purpose of the WEEA program is: (a) To promote gender equity in education in the United States; (b) to provide financial assistance to enable educational agencies and institutions to meet the requirements of title IX of the Educational Amendments of 1972; and (c) to promote equity in education for women and girls who suffer from multiple forms of discrimination based on sex, race, ethnic origin, limited-English proficiency, disability, or age. Under 20 U.S.C. 7283d(e) nothing in this subpart shall be construed as prohibiting men and boys from participating in any program or activity assisted with funds under this subpart.

(2) Project as a component of a comprehensive plan. (10 points)

The Secretary reviews each application to determine the extent to which the project is a significant component of a comprehensive plan for educational equity and compliance with title IX of the Educational Amendments of 1972 in the particular school district, institution of higher education, vocational-technical institution, or other educational agency or institution.

(3) Implementing an institutional change strategy. (5 points)

The Secretary reviews each application to determine the extent to which the project implements an institutional change strategy with long-term impact that will continue as a central activity of the applicant after the WEEA grant has been terminated.

(4) Need for project. (10 points)

The Secretary considers the need for the proposed project. In determining the need for the proposed project, the Secretary considers the following factors:

a. The magnitude of the need for the services to be provided or the activities to be carried out by the proposed project.

b. The extent to which the proposed project will promote equity in educational and career opportunities for those women and girls who suffer multiple forms of discrimination, based on sex and race, ethnic origin, limited English proficiency, disability, or age.

(5) Quality of the project design. (20 points)

The Secretary considers the quality of the design of the proposed project. In determining the quality of the design of the proposed project, the Secretary considers the following factors:

a. The extent to which the goals, objectives, and outcomes to be achieved by the proposed project are clearly specified and measurable.

b. The extent to which the design of the proposed project is appropriate to, and will successfully address, the needs of the target population or other identified needs.

c. The extent to which the design of the proposed project reflects up-to-date knowledge from research and effective practice.

d. The extent to which the project promotes the involvement of parents.

(6) Quality of Project Personnel. (10 points)

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

a. The qualifications, including relevant training and experience, of the project director or principal investigator.

b. The qualifications, including relevant training and experience, of key project personnel.

c. The qualifications, including relevant training and experience, of project consultants or subcontractors.

(7) Adequacy of resources. (5 points)

The Secretary considers the adequacy of resources for the proposed project. In determining the adequacy of resources for the proposed project, the Secretary considers the following factors:

a. The adequacy of support, including facilities, equipment, supplies, and other resources, from the applicant organization or the lead applicant organization.

b. The extent to which the budget is adequate to support the proposed project.

(8) Quality of the management plan. (15 points)

The Secretary considers the quality of the management plan for the proposed project. In determining the quality of the management plan for the proposed project, the Secretary considers the following factors:

a. The adequacy of the management plan to achieve the objectives of the proposed project on time and within budget, including clearly defined responsibilities, time lines, and milestones for accomplishing project tasks.

b. The extent to which the time commitments of the project director and principal investigator and other key project personnel are appropriate and adequate to meet the objectives of the proposed project.

c. How the applicant will ensure that a diversity of perspectives are brought to bear in the operation of the proposed project, including those of parents, teachers, the business community, a variety of disciplinary and professional fields, recipients or beneficiaries of services, or others, as appropriate.

(9) Quality of the project evaluation. (15 points)

The Secretary considers the quality of the evaluation to be conducted of the proposed project. In determining the quality of the evaluation, the Secretary considers the following factors:

a. The extent to which the methods of evaluation are thorough, feasible, and appropriate to the goals, objectives, and outcomes of the proposed project.

b. The extent to which the methods of evaluation include the use of objective performance measures that are clearly related to the intended outcomes of the project and will produce quantitative and qualitative data to the extent possible.

c. The extent to which the methods of evaluation will provide performance feedback and permit periodic assessment of progress toward achieving intended outcomes.

d. The extent to which the evaluation will provide guidance about effective strategies suitable for replication or testing in other settings.

Note: Applicants should consider the following statutory provision when responding to this criterion. Under 20 U.S.C. 7283c(1), applicants for WEEA funds are required to describe policies and procedures that will ensure a comprehensive evaluation of the grant activities, including an evaluation of the practices, policies, and materials used by the applicant and an evaluation or estimate of the continued significance of the work of the project following completion of the award period.

For Applications Contact: Education Publications Center (ED Pubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/about/ordering.jsp

Or you may contact ED Pubs at its e-mail address: edpubs@inet.ed.gov

If you request an application from ED Pubs, be sure to identify this competition as follows: CFDA number 84.363A.

For Content Information and Technical Assistance Contact: Diane Austin, U.S. Department of Education, 400 Maryland Avenue, SW., Room 3E124, Washington, DC 20202-6140. Telephone: (202) 260-1393 or via Internet: diane.austin@ed.gov

Individuals with disabilities may obtain this document in an alternative format (e.g., Braille, large print, audiotape, or computer diskette) on request using the contact information provided under For Applications Contact.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on FPO access at: http://www.access.gpo.gov/nara/index.html

Program Authority: 20 U.S.C. 6651(b).

Dated: July 1, 2002.
Susan B. Neuman,
Assistant Secretary for Elementary and Secondary Education.

[FR Doc. 02-16888 Filed 7-3-02; 8:45 am]

BILLING CODE 4000-01-P